DEPARTMENT OF DEFENSE

48 CFR Part 219

[DFARS Case 2004-D029]

Defense Federal Acquisition Regulation Supplement; Extension of Test Program for Negotiation of Comprehensive Small Business Subcontracting Plans

AGENCY: Department of Defense (DoD).

ACTION: Final rule.

SUMMARY: DoD has issued a final rule amending the Defense Federal Acquisition Regulation Supplement (DFARS) to implement Section 843 of the National Defense Authorization Act for Fiscal Year 2005. Section 843 provides for a 5-year extension of the DoD test program for negotiation of comprehensive small business subcontracting plans.

DATES: Effective March 23, 2005.

FOR FURTHER INFORMATION CONTACT: Ms. Michele Peterson, Defense Acquisition Regulations Council, OUSD (AT&L) DPAP (DAR), IMD 3C132, 3062 Defense Pentagon, Washington, DC 20301-3062. Telephone (703) 602-0311; facsimile (703) 602-0350. Please cite DFARS Case 2004-D029.

SUPPLEMENTARY INFORMATION:

A. Background

This final rule amends DFARS 219.702 to implement Section 843 of the National Defense Authorization Act for Fiscal Year 2005 (Pub. L. 108-375). Section 843 amends Section 834(e) of the National Defense Authorization Act for Fiscal Years 1990 and 1991 (Pub. L. 101-189; 15 U.S.C. 637 note) to extend the termination date of the DoD test program for negotiation of comprehensive small business subcontracting plans, from September 30, 2005, to September 30, 2010. The test program permits participating DoD contractors to negotiate comprehensive small business subcontracting plans on a plant, division, or company-wide basis.

This rule also updates a statutory reference at DFARS 219.702(a), and updates the heading of DFARS Subpart 219.7 for consistency with the heading of FAR Subpart 19.7.

This rule was not subject to Office of Management and Budget review under Executive Order 12866, dated September 30, 1993.

B. Regulatory Flexibility Act

This rule will not have a significant cost or administrative impact on contractors or offerors, or a significant effect beyond the internal operating procedures of DoD. Therefore, publication for public comment is not required. However, DoD will consider comments from small entities concerning the affected DFARS subpart in accordance with 5 U.S.C. 610. Such comments should cite DFARS Case 2004-D029.

C. Paperwork Reduction Act

The Paperwork Reduction Act does not apply because the rule does not contain any information collection requirements that require the approval of the Office of Management and Budget under 44 U.S.C. 3501, et seq.

List of Subjects in 48 CFR Part 219

Government procurement.

Michele P. Peterson,
Editor, Defense Acquisition Regulations System.

Therefore, 48 CFR part 219 is amended as follows:

1. The authority citation for 48 CFR part 219 continues to read as follows:

Authority: 41 U.S.C. 421 and 48 CFR Chapter 1.

PART 219—SMALL BUSINESS PROGRAMS

Subpart 219.7 [Amended]

2. Subpart 219.7 is amended by revising the subpart heading to read “Subpart 219.7—The Small Business Subcontracting Program”.

219.702 [Amended]

3. Section 219.702 is amended as follows:

a. In paragraph (a), in the introductory text, by adding after “as amended” the parenthetical “(15 U.S.C. 637 note)”; and

b. In paragraph (a)(i)(A)(1), by removing “2005” and adding in its place “2010”.

[FR Doc. 05-5630 Filed 3-22-05; 8:45 am]

BILLING CODE 5001-08-P